DEPARTMENT OF TRANSPORTATION

Federal Aviation Administration

14 CFR Part 39

[Docket No. FAA-2010-0522; Directorate Identifier 2010-CE-022-AD]

RIN 2120-AA64

Airworthiness Directives; Various Aircraft Equipped With Rotax Aircraft Engines 912 A Series Engines

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: This Airworthiness Directive (AD) results from reports of cracks in the engine crankcase. Austro Control GmbH (ACG) addressed the problem by issuing AD No 107R3 which was superseded by ACG AD A-2004-01.

The present AD supersedes the ACG AD A-2004-01. On one hand, introduction by Rotax of an optimized crankcase assembly has permitted to reduce applicability of the new AD, when based on engines' serial numbers (s/n). On the other hand, applicability is extended for some engines that may have been fitted with certain crankcase s/n, supplied as spare parts.

In addition, accomplishment instructions given through the relevant Service Bulletins (SB) have been detailed to better locate engine's areas that are to be scrutinised.

The proposed AD would require actions that are intended to address the unsafe condition described in the MCAI.

DATES: We must receive comments on this proposed AD by July 6, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Sarjapur Nagarajan, Aerospace Engineer, FAA, Small Airplane Directorate, 901 Locust, Room 301, Kansas City, Missouri 64106; telephone: (816) 329-4145; fax: (816) 329-4090; e-mail: sarjapur.nagarajan@faa.gov.

SUPPLEMENTARY INFORMATION:

Comments Invited

We invite you to send any written relevant data, views, or arguments about this proposed AD. Send your comments to an address listed under the ADDRESSES section. Include “Docket No. FAA-2010-0522; Directorate Identifier 2010-CE-022-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The European Aviation Safety Agency (EASA), which is the Technical Agent for the Member States of the European Community, has issued EASA AD No.: 2007-0025, dated February 1, 2007 (referred to after this as “the MCAI”), to correct an unsafe condition for the specified products. The MCAI states:

This Airworthiness Directive (AD) results from reports of cracks in the engine crankcase. Austro Control GmbH (ACG) addressed the problem by issuing AD No 107R3 which was superseded by ACG AD A-2004-01.

The present AD supersedes the ACG AD A-2004-01. On one hand, introduction by Rotax of an optimized crankcase assembly has permitted to reduce applicability of the new AD, when based on engines' serial numbers (s/n). On the other hand, applicability is extended for some engines that may have been fitted with certain crankcase s/n, supplied as spare parts.

In addition, accomplishment instructions given through the relevant Service Bulletins (SB) have been detailed to better locate engine's areas that are to be scrutinised.

The aim of this AD is to ensure that the requested engine power is available at any time to prevent a sudden loss of power that could lead to a hazardous situation in a low altitude phase of flight.

The MCAI requires inspecting certain crankcases for cracks and replacing the crankcase if cracks are found.

The MCAI applies to all versions of Bombardier-Rotax GmbH 912 A, 912 F, and 912 S series engines. Versions of the 912 F series and 912 S series engines are type certificated in the United States. However, the Model 912 A series engine installed in various aircraft does not have an engine type certificate; instead, the engine is part of the aircraft type design. You may obtain further information by examining the MCAI in the AD docket.

Relevant Service Information

Rotax Aircraft Engines has issued Service Bulletin SB-912-029 R3, dated July 11, 2006. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

We estimate that this proposed AD will affect 60 products of U.S. registry. We also estimate that it would take about 3 work-hours per product to comply with the basic requirements of this proposed AD. The average labor rate is $85 per work-hour.

Based on these figures, we estimate the cost of the proposed AD on U.S. operators to be $15,300, or $255 per product.

In addition, we estimate that any necessary follow-on actions would take about 20 work-hours and require parts costing $6,500, for a cost of $8,200 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Various Aircraft: Docket No. FAA-2010-0522; Directorate Identifier 2010-CE-022-AD.

Comments Due Date

(a) We must receive comments by July 6, 2010.

Affected ADs

(b) None.

Applicability

(c) This AD applies to all serial numbers (S/N) of the following aircraft, equipped with a Rotax Aircraft Engines 912 A series engine with a crankcase assembly S/N up to and including S/N 27811, certificated in any category:

Type certificate holder | Aircraft model | Engine model
Aeromot-Industrial Mecanico Metalurgica tda. | AMT-200 | 912 A2
Diamond Aircraft Industries | HK 36 R “SUPER DIMONA” | 912 A
Diamond Aircraft Industries GmbH | HK 36 TS HK 36 TC | 912 A3 912 A3
Diamond Aircraft Industries Inc. | DA20-A1 | 912 A3
HOAC-Austria | DV 20 KATANA | 912 A3
Iniziative Industriali Italiane S.p.A. | Sky Arrow 650 TC | 912 A2
SCHEIBE-Flugzeugbau GmbH | SF 25C | 912 A2 or 912 A3

Subject

(d) Air Transport Association of America (ATA) Code 72: Engine.

Reason

(e) The mandatory continuing airworthiness information (MCAI) states:

This Airworthiness Directive (AD) results from reports of cracks in the engine crankcase. Austro Control GmbH (ACG) addressed the problem by issuing AD No. 107R3 which was superseded by ACG AD A-2004-01.

The present AD supersedes the ACG AD A-2004-01. On one hand, introduction by Rotax of an optimized crankcase assembly has permitted to reduce applicability of the new AD, when based on engines' serial numbers (s/n). On the other hand, applicability is extended for some engines that may have been fitted with certain crankcase s/n, supplied as spare parts.

In addition, accomplishment instructions given through the relevant Service Bulletins (SB) have been detailed to better locate engine's areas that are to be scrutinised.

The aim of this AD is to ensure that the requested engine power is available at any time to prevent a sudden loss of power that could lead to a hazardous situation in a low altitude phase of flight.

The MCAI requires inspecting certain crankcases for cracks and replacing the crankcase if cracks are found.

Actions and Compliance

(f) Unless already done, do the following actions:

(1) Within the next 50 hours time-in-service (TIS) after the effective date of this AD, inspect the engine crankcase for cracks following Rotax Aircraft Engines Service Bulletin SB-912-029 R3, dated July 11, 2006. Repetitively thereafter do the inspection at each 100-hour, annual, or progressive inspection or within 110 hours TIS since last inspection, whichever occurs first.

(2) If cracks in the engine crankcase are found during any inspection required by paragraph (f)(1) of this AD, before further flight, replace the crankcase following Rotax Aircraft Engines Service Bulletin SB-912-029 R3, dated July 11, 2006.

(3) Installing a crankcase that has a S/N 27812 or subsequent terminates the inspection requirements of paragraph (f)(1) of this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090; e-mail: sarjapur.nagarajan@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Special Flight Permit

(h) We are limiting the special flight permits for this AD by the following conditions if the crankcase is cracked or there is evidence of oil leakage from the crankcase:

(1) Perform a leak check as follows:

(i) Clean the crankcase surface to remove any oil.

(ii) Warm up the engine to a minimum oil temperature of 50 degrees C (120 degrees F). Information about warming up the engine can be found in the applicable line maintenance manual.

(iii) Accelerate the engine to full throttle and stabilize at full throttle speed for a time period of 5 to 10 seconds. Information about performing a full throttle run can be found in the applicable line maintenance manual.

(iv) Shutdown after running the engine at idle only long enough to prevent vapor locks in the cooling system and fuel system.

(v) Inspect the crankcase for evidence of oil leakage. Oil wetting is permitted, but oil leakage of more than one drip in 3 minutes after engine shutdown is not allowed.

(2) Check the crankcase mean pressure to confirm that it is 1.46 pounds-per-square inch gage (psig) (0.1 bar) or higher when checked at takeoff power to ensure proper return of oil from the crankcase to the oil tank. Information about checking crankcase mean pressure is available in the Lubrication System section of the applicable engine installation manual.

(3) A ferry flight is not allowed if oil leakage exceeds one drip in 3 minutes or if crankcase mean pressure is below 1.46 psig.

Related Information

(i) Refer to MCAI EASA AD No.: 2007-0025, dated February 1, 2007; and Rotax Aircraft Engines Service Bulletin SB-912-029 R3, dated July 11, 2006, for related information. Contact BRP-Powertrain GMBH & Co KG, Welser Strasse 32, A-4623 Gunskirchen, Austria; phone: (+43) (0) 7246 601-0; fax: (+43) (0) 7246 6370; Internet: http://www.rotax.com, for a copy of this service information.

Issued in Kansas City, Missouri, on May 14, 2010.
Kim Smith,
Manager, Small Airplane Directorate, Aircraft Certification Service.

[FR Doc. 2010-12298 Filed 5-20-10; 8:45 am]

BILLING CODE 4910-13-P